DEPARTMENT OF JUSTICE

Federal Bureau of Investigation

[OMB Number 1110-0045]

Agency Information Collection Activities; Proposed eCollection eComments Requested; Extension of Currently Approved Collection; Customer Satisfaction Assessment Survey

AGENCY: Federal Bureau of Investigation, Department of Justice.

ACTION: 30-Day notice.

SUMMARY: The Department of Justice, Federal Bureau of Investigation, Laboratory Division (LD) has submitted the following Information Collection Request to the Office of Management and Budget (OMB) for review and clearance in accordance with the established review procedures of the Paperwork Reduction Act of 1995. The proposed information collection is published to obtain comments from the public and affected agencies.

DATES: The Department of Justice encourages public comment and will accept input until August 2, 2021.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Customer Satisfaction Assessment.

3. The agency form number: FD-1000.

4. Affected public who will be asked or required to respond, as well as a brief abstract: Respondents primarily include federal, state, and local law enforcement. Respondents also include the intelligence community, Department of Defense, and international police agencies personnel and/or crime laboratory personnel. This collection is a brief questionnaire regarding customers' satisfaction with the services provided by the Federal Bureau of Investigation Laboratory. This collection is needed to evaluate the quality of services provided by the Federal Bureau of Investigation Laboratory. The Federal Bureau of Investigation Laboratory is accredited by the ANSI National Accreditation Board (ANAB). A requirement for maintaining accreditation is to evaluate the level of service provided by the Federal Bureau of Investigation Laboratory to our customers. To meet this requirement the Federal Bureau of Investigation Laboratory is requesting its customers to complete and return the Customer Satisfaction Assessment.

5. An estimate of the total number of respondents and the amount of time estimated for an average respondent to respond: An estimated 500 respondents will complete the Customer Satisfaction Assessment survey in 2021. This estimate is based on the number of respondents in prior years of this collection. It is estimated that respondents will need 5 minutes to complete a questionnaire.

6. An estimate of the total public burden (in hours) associated with the collection: The estimated public burden associated with this collection is 42 hours. It is estimated that respondents will need 5 minutes to complete a questionnaire. The burden hours for collecting respondent data sum to approximately 42 hours (500 respondents × 5 minutes = 41.67 hours).

If additional information is required contact: Melody Braswell, Department Clearance Officer, United States Department of Justice, Justice Management Division, Policy and Planning Staff, Two Constitution Square, 145 N Street NE, 3E.405A, Washington, DC 20530.

Dated: June 28, 2021.
Melody Braswell,
Department Clearance Officer for PRA, U.S. Department of Justice.

[FR Doc. 2021-14071 Filed 7-1-21; 8:45 am]

BILLING CODE 4410-02-P